DEPARTMENT OF THE INTERIOR

National Park Service

[NPS-NRSS-WRD-NPS0028654; PPWONRADW0, PPMRSNR1Y.NM0000 (200); 0MB Control Number 1024-NEW]

Agency Information Collection Activities; National Park Service Watercraft Inspection Decontamination Regional Data-Sharing for Trailered Recreational Boats

AGENCY: National Park Service, Interior.

SUMMARY: In accordance with the Paperwork Reduction Act of 1995, we, the National Park Service (NPS) are proposing a new information collection.

DATES: Interested persons are invited to submit comments on or before January 17, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-NEW (Quagga) in the subject line of your comments.

FOR FURTHER INFORMATION CONTACT: To request additional information about this ICR, contact John Wullschleger, Fish Program Lead, Water Resources Division, Natural Resource Stewardship and Science Directorate, National Park Service, 1201 Oakridge Dr., Suite 20, Fort Collins, CO 80525; or by email at john_wullschleger@nps.gov. Please reference OMB Control Number 1024-NEW (Quagga) in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On February 8, 2019, we published a Federal Register notice soliciting comments on this collection of information for 60 days, ending on April 9, 2019 (84 FR 2920). We did not receive any comments in response to the notice.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the Lacey Act (18 U.S.C. 42, 16 U.S.C. 3371-3378 et seq.) to deter the possession and transport of zebra/quagga mussels which are listed as an invasive species under this legislation. To comply with this directive, the NPS is requesting approval to collect information from recreational boaters entering or exiting water areas managed by the agency to prevent the spread of quagga/zebra mussels through the movement of trailered watercraft. This data is necessary to document the presence of invasive species and evaluate any risks associated with the unintentional introduction of quagga/zebra mussels in waters managed by the NPS. The information collection will be administered on boat ramps using a mobile application to be filled out by NPS staff using a tablet, smartphone, or similar device. Collection of this information is mandatory for all watercrafts entering and exiting waters managed by the NPS that participate in Watercraft Inspection and Decontamination programs.

Title of Collection: National Park Service Watercraft Inspection Decontamination Regional Data-Sharing for Trailered Recreational Boats.

OMB Control Number: 1024-NEW.

Form Numbers: None.

Type of Review: Request for a new collection.

Respondents/Affected Public: Individuals and households.

Total Estimated Number of Annual Respondents: 160,000.

Total Estimated Number of Annual Responses: 160,000.

Estimated Completion Time per Response: 1 minute for 120,000 low-risk watercrafts and 3 minutes for 40,000 high-risk watercrafts.

Total Estimated Number of Annual Burden Hours: 4,000.

Respondent's Obligation: Mandatory.

Frequency of Collection: One-time per launch site.

Total Estimated Annual Non-Hour Burden Cost: None.

Activity | Responses | Annual number of responses | Completion time per response (minutes) | Total annual burden hours
Low Risk | Recreational | 108,000 | 1 | 1,800
| Commercial | 12,000 | 1 | 200
High Risk | Recreational | 36,000 | 3 | 1,800
| Commercial | 4,000 | 3 | 200
Total |  | 160,000 |  | 4,000

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-27252 Filed 12-17-19; 8:45 am]

BILLING CODE 4312-52-P